DEPARTMENT OF JUSTICE

Antitrust Division

Notice Pursuant to the National Cooperative Research and Production Act of 1993—The Open Group, L.L.C.

Notice is hereby given that, on November 30, 2021, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 1 World Training, Dallas, TX; AirBorn, Inc., Georgetown, TX; AkerBP ASA, Lysaker, NORWAY; Alta Data Technologies, LLC, Rio Rancho, NM; Archer, Overland Park, KS; Armis Security, Palo Alto, CA; Atrenne, A Celestica Company, Brockton, MA; AVIC CONSULTING CO., LTD, Beijing, PEOPLE'S REPUBLIC OF CHINA; B3 Insight, Inc., Denver, CO; Booz Allen Hamilton, Linthicum, MD; capitence Ltd, Dublin, IRELAND; Cloudwick, Technologies, Inc., Newark, CA; Comtel Electronics, Inc., San Diego, CA; Craft Designs, Inc., Huntsville, AL; Cubic Corporation, San Diego, CA; Databricks, Inc., San Francisco, CA; Digital-twin Modeling Technology, Ltd, Beijing, PEOPLE'S REPUBLIC OF CHINA; eDrilling, Stavanger, NORWAY; EGERIE Software, Toulon, FRANCE; Energy Research & Innovation Newfoundland & Labrador, Newfoundland & Labrador, CANADA; EnergyVue Services Limited, Aberdeen, UNITED KINGDOM; General Atomics Aeronautical Systems, Inc., Poway, CA; General Micro Systems, Inc., Rancho Cucamonga, CA; GeoComputing Group, LLC; Houston, TX; GridPoint Dynamics, Limited Liability Company, Moscow, RUSSIAN FEDERATION, Harmony Solutions Limited, Westlands, KENYA; IDEAS Engineering and Technology, LLC, Albuquerque, NM; Intelligent Wellhead Systems Inc., Alberta, CANADA; ITZ, LLC, Saint Inigoes, MD; KAVCA AS, Oslo, NORWAY; MapLarge Inc., Atlanta, GA; Nanjing Origin Information Technology Co. Ltd., Nanjing, PEOPLE'S REPUBLIC OF CHINA; Naonworks Co. Ltd., Seoul, REPUBLIC OF KOREA; NORCE Norwegian Research Centre AS, Bergen, NORWAY; NOV, Houston, TX; Perecon AS, Bergen, NORWAY; Petroleum Research Newfoundland & Labrador, Newfoundland & Labrador, CANADA; Pixus Technologies USA Corp., Tonawanda, NY; Pro Well Plan as, Bergen, NORWAY; PT. NUVISION INTERNASIONAL INDONESIA, Jakarta, INDONESIA; ROGII Inc, Houston, TX; Saison Information Systems Co., Ltd., Minato-ku, JAPAN; Sciens Innovations, LLC, York, PA; Sealevel Systems, Inc., Liberty, SC; Selman & Associates, Ltd., Midland, TX; Ventum Consulting Foshan Ltd, Beijing, PEOPLE'S REPUBLIC OF CHINA; ViaSat, Inc., Carlsbad, CA; and wehyve GmbH, Braunschweig, GERMANY, have been added as parties to this venture.

Also, ASE Consulting, Ltd., Lytham, UNITED KINGDOM; Avanade, Inc., Seattle, WA; Beijing JCC Information Consulting Co., Ltd, Beijing, PEOPLE'S REPUBLIC OF CHINA; Beijing Thunisoft Information Technology Co., Ltd., Beijing, PEOPLE'S REPUBLIC OF CHINA, BMC Software, Inc., Houston, TX; Bridewell Consulting Ltd, Reading, UNITED KINGDOM; Cisco Systems, Inc., San Jose, CA; Ecole Centrale de Lille, Villeneuve d'Ascq, FRANCE; Edgelox, Duluth, GA; Embassy of Things, San Diego, CA; Envizion cvba, Boutersem, BELGIUM; Fruition Partners B.V., Rijswijk, THE NETHERLANDS; Gelder Gringas and Associates, Ottawa, CANADA; Hint Americas, Inc., Houston, TX; Interface Concept Inc., Naperville, IL; Johns Hopkins University Applied Physics Laboratory, Laurel, MD; Leeds City Council, Leeds, UNITED KINGDOM; Lyrn, Copenhagen, DENMARK; Maana, Inc., Menlo Park, CA; Mellanox Federal Systems, Houston, TX; Mundo Cognito Ltd., Penn, UNITED KINGDOM; Noble Energy, Inc., Houston, TX; OPC Foundation, Ravenna, OH; Panamerica Computers, Inc., dba PCi Tec, Luray, VA; PMK Architecture Services, LLC, San Diego, CA; RagnaRock Geo, Trondheim, NORWAY; Searcher Seismic Geodata Pty Ltd, West Perth, AUSTRALIA; SMART Embedded Computing, Tempe, AZ; TRM Technologies Inc., Ottawa, CANADA; University of York, Department of Computer Science, York, UNITED KINGDOM; and vCISO Services, LLC, Franklin, TN, have withdrawn as parties to this venture.

In addition, Wintershall DEA GmbH has changed its name to Wintershall DEA AG, Hamburg, Germany.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on August 2, 2021. A notice was published in the Federal Register pursuant to Section 6(b) of the Act on August 23, 2021 (86 FR 47148).

Suzanne Morris,
Chief, Premerger and Division Statistics, Antitrust Division.

[FR Doc. 2022-00590 Filed 1-12-22; 8:45 am]

BILLING CODE 4410-11-P